DEPARTMENT OF COMMERCE

Foreign-Trade Zones Board

[B-6-2024]

Proposed Foreign-Trade Zone—Iberia Parish, Louisiana Under Alternative Site Framework

An application has been submitted to the Foreign-Trade Zones (FTZ) Board by the Port of Iberia District to establish a foreign-trade zone in Iberia Parish, Louisiana, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on February 7, 2024. The applicant is authorized to make the proposal under Louisiana Revised Statutes, Title 51, sections 61-65.

The proposed zone would be the third zone for the Morgan City CBP port of entry. The existing zones are as follows: FTZ 261, Alexandria, Louisiana (Grantee: England Economic and Industrial Development District, Board Order 1325, April 21, 2004); and, FTZ 279, Houma, Louisiana (Grantee: Houma-Terrebonne Airport Commission, Board Order 1771, July 7, 2011).

The applicant's proposed service area under the ASF would be the portions of Iberia Parish which lie within the boundaries of the Port of Iberia District, as described in the application. If approved, the applicant would be able to serve sites throughout the service area based on companies' needs for FTZ designation. The application indicates that the proposed service area is within and adjacent to the Morgan City Customs and Border Protection port of entry.

The proposed zone would include a subzone for Global Riser US, LLC, located at 3500 Segura Road in New Iberia (117.36 acres).

The application indicates a need for zone services in the Iberia Parish area. Several firms have indicated an interest in using zone procedures for warehousing/distribution activities for a variety of products. Specific production approvals are not being sought at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is April 15, 2024. Rebuttal comments in response to material submitted during the foregoing period may be submitted during the subsequent 15-day period to April 29, 2024.

A copy of the application will be available for public inspection in the “Online FTZ Information Section” section of the FTZ Board's website, which is accessible via www.trade.gov/ftz.

For further information, contact Camille Evans at Camille.Evans@trade.gov.

Dated: February 7, 2024.
Elizabeth Whiteman,
Executive Secretary.

[FR Doc. 2024-02898 Filed 2-12-24; 8:45 am]

BILLING CODE 3510-DS-P